DEPARTMENT OF AGRICULTURE

Food Safety and Inspection Service

9 CFR Part 430

[Docket No. 2007-0046]

Control of Listeria monocytogenes in Ready-To-Eat Meat and Poultry Products

AGENCY: Food Safety and Inspection Service (FSIS), USDA.

ACTION: Interim final rule; schedule for review under section 610 requirements.

SUMMARY: The Food Safety and Inspection Service (FSIS) is announcing that it did not conduct a review of the interim final rule, Control of Listeria monocytogenes in Ready-to-Eat Meat and Poultry Products, in 2007 as stated in its amended schedule plan for reviewing regulations under Section 610 of the Regulatory Flexibility Act, as amended. The Agency has decided to wait until it publishes a final rule in this proceeding before amending its plan so it can conduct a review of that final rule instead of the interim final rule.

FOR FURTHER INFORMATION CONTACT: For further information contact Rachel Edelstein, Director, Policy Issuances Division, FSIS, U.S. Department of Agriculture, 1400 Independence Avenue, SW., Room 3538, Washington, DC 20250-3700, (202) 202/720-5627.

SUPPLEMENTARY INFORMATION:

Background

Section 610 of the Regulatory Flexibility Act (RFA), as amended (5 U.S.C. 601-612), requires that all Federal agencies review any regulations that have been identified as having a significant economic impact upon a substantial number of small entities as a means to determine whether the associated impact can be minimized by considering the following factors: (1) The continued need for the rule; (2) the nature of the complaints or comments received concerning the rule from the public; (3) the complexity of the rule; (4) the extent to which the rule overlaps, duplicates, or conflicts with other Federal rules; and (5) the length of time since the rule has been initially evaluated or the degree to which technology, economic conditions, or other factors have changed in the area affected by the rule.

On January 28, 2005, FSIS published an amended scheduling plan in the Federal Register (70 FR 4047) for reviewing regulations. This plan scheduled a review in 2007 of the interim final rule, Control of Listeria monocytogenes in Ready-to-Eat Meat and Poultry Products (68 FR 34208; June 6, 2003). Because FSIS intends to issue a final rule in this rulemaking, it does not plan to review the interim final rule. Once the Agency publishes the final rule, it will amend its plan so it will be able to properly assess the impact of the final rule.

Additional Public Notification

Public awareness of all segments of rulemaking and policy development is important. Consequently, in an effort to ensure that the public and in particular minorities, women, and persons with disabilities, are aware of this notice, FSIS will announce it on-line through the FSIS Web page located at http://www.fsis.usda.gov/regulations_&_policies/2008_Notices_Index/index.asp.

FSIS also will make copies of this Federal Register publication available through the FSIS Constituent Update, which is used to provide information regarding FSIS policies, procedures, regulations, Federal Register notices, FSIS public meetings, and other types of information that could affect or would be of interest to our constituents and stakeholders. The Update is communicated via Listserv, a free e-mail subscription service consisting of industry, trade, and farm groups, consumer interest groups, allied health professionals, scientific professionals, and other individuals who have requested to be included. The Update also is available on the FSIS Web page. Through Listserv and the Web page, FSIS is able to provide information to a much broader, more diverse audience.

In addition, FSIS offers an e-mail subscription service which provides automatic and customized access to selected food safety news and information. This service is available at http://www.fsis.usda.gov/news_and_events/email_subscription/. Options range from recalls to export information to regulations, directives and notices. Customers can add or delete subscriptions themselves, and have the option to password protect their accounts.

Done at Washington, DC, on August 27, 2008.
Alfred V. Almanza,
Administrator.

[FR Doc. E8-20368 Filed 9-2-08; 8:45 am]

BILLING CODE 3410-DM-P